DEPARTMENT OF ENERGY

Federal Energy Regulatory Commission

Combined Notice of Filings

Take notice that the Commission has received the following Natural Gas Pipeline Rate and Refund Report filings:

Filings Instituting Proceedings

Docket Numbers: RP12-225-000.

Applicants: Iroquois Gas Transmission System, L.P.

Description: 12/08/11 Negotiated Rates—Citigroup Energy Inc. to be effective 12/8/2011.

Filed Date: 12/8/11.

Accession Number: 20111208-5102.

Comments Due: 5 p.m. ET 12/20/11.

Docket Numbers: RP12-226-000.

Applicants: Iroquois Gas Transmission System, L.P.

Description: 12/08/11 Negotiated Rates—Freepoint Commodities, LLC to be effective 12/8/2011.

Filed Date: 12/8/11.

Accession Number: 20111208-5103.

Comments Due: 5 p.m. ET 12/20/11.

Docket Numbers: RP12-227-000.

Applicants: Iroquois Gas Transmission System, L.P.

Description: 12/08/11 Negotiated Rates—Societe Generale Energy Corp.—RTS to be effective 12/8/2011.

Filed Date: 12/8/11.

Accession Number: 20111208-5104.

Comments Due: 5 p.m. ET 12/20/11.

Docket Numbers: RP12-228-000.

Applicants: Iroquois Gas Transmission System, L.P.

Description: 12/08/11 Negotiated Rates—United Energy Trading, LLC—RTS to be effective 12/8/2011.

Filed Date: 12/8/11.

Accession Number: 20111208-5105.

Comments Due: 5 p.m. ET 12/20/11.

Docket Numbers: RP12-229-000.

Applicants: Petal Gas Storage, LLC.

Description: Baseline Filing of Second Revised Volume 1 to be effective 12/1/2011.

Filed Date: 12/9/11.

Accession Number: 20111209-5048.

Comments Due: 5 p.m. ET 12/21/11.

Docket Numbers: RP12-230-000.

Applicants: Petal Gas Storage, LLC.

Description: Cancel First Revised Volume No. 1 Tariff to be effective 12/9/2011.

Filed Date: 12/9/11.

Accession Number: 20111209-5112.

Comments Due: 5 p.m. ET 12/21/11.

Docket Numbers: RP12-231-000.

Applicants: Viking Gas Transmission Company.

Description: Part 5.0 Correction to be effective 12/1/2011.

Filed Date: 12/9/11.

Accession Number: 20111209-5115.

Comments Due: 5 p.m. ET 12/21/11.

Docket Numbers: RP12-232-000.

Applicants: Tennessee Gas Pipeline Company, LLC.

Description: Actual Tariff Record Scheduling Provisions (Rate Case non-rate issues) to be effective 2/1/2012.

Filed Date: 12/9/11.

Accession Number: 20111209-5146.

Comments Due: 5 p.m. ET 12/21/11.

Any person desiring to intervene or protest in any of the above proceedings must file in accordance with Rules 211 and 214 of the Commission's Regulations (18 CFR 385.211 and 385.214) on or before 5 p.m. Eastern time on the specified comment date. Protests may be considered, but intervention is necessary to become a party to the proceeding.

Filings in Existing Proceedings

Docket Numbers: RP12-20-001.

Applicants: Millennium Pipeline Company, LLC.

Description: Negotiated Rate Service Agreement Compliance Filing to be effective 11/1/2011.

Filed Date: 12/8/11.

Accession Number: 20111208-5107.

Comments Due: 5 p.m. ET 12/20/11.

Docket Numbers: RP12-13-001.

Applicants: Williston Basin Interstate Pipeline Company.

Description: Compliance Filing—Transfer Language to be effective 11/10/2011.

Filed Date: 12/9/11.

Accession Number: 20111209-5047.

Comments Due: 5 p.m. ET 12/21/11.

Docket Numbers: RP12-149-001.

Applicants: Eastern Shore Natural Gas Company.

Description: Revised Storage Tracker RP12-149-001 to be effective 10/1/2011.

Filed Date: 12/12/11.

Accession Number: 20111212-5003.

Comments Due: 5 p.m. ET 12/27/11.

Docket Numbers: RP12-150-001.

Applicants: Eastern Shore Natural Gas Company.

Description: Revised Storage Tracker RP12-150-001 to be effective 11/1/2011.

Filed Date: 12/12/11.

Accession Number: 20111212-5004.

Comments Due: 5 p.m. ET 12/27/11.

Any person desiring to protest in any of the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: December 12, 2011.
Nathaniel J. Davis, Sr.
Deputy Secretary

[FR Doc. 2011-32403 Filed 12-16-11; 8:45 am]

BILLING CODE 6717-01-P